DEPARTMENT OF COMMERECE

National Oceanic and Atmospheric Administration

[Docket No. 030528135-3135-01; I.D. 050103F]

Financial Assistance for Submerged Aquatic Vegetation (SAV) Culture and Large Scale Restoration Activities in Chesapeake Bay

AGENCY: National Marine Fisheries Service (NMFS), National Oceanic and Atmospheric Administration (NOAA), Department of Commerce.

ACTION: Notice of availability of funds.

SUMMARY: The purpose of this notice is to invite the public to submit proposals for available funding toward research and development projects that address various aspects of Chesapeake Bay Submerged Aquatic Vegetation (SAV) culture and large scale restoration projects. Funds are available to State, local and Indian tribal governments, institutions of higher education, other non-profit organizations and commercial organizations. This notice describes the conditions under which project proposals will be accepted and criteria under which proposals will be evaluated for funding consideration. Depending upon the level of Federal involvement in individual projects, selected recipients will enter into either a cooperative agreement or a grant.

DATES: Applications must be received by 5 p.m. eastern daylight savings time on July 10, 2003. Applications received after that time will not be considered for funding.

Statements of Intent (see SUPPLEMENTARY INFORMATION) should be submitted by June 30, 2003.

ADDRESSES: You can obtain an application package from, and send completed proposals to: Peter Bergstrom, NOAA Chesapeake Bay Office, 410 Severn Avenue, Suite 107A, Annapolis, MD 21403. You can also obtain the application package from the NOAA Chesapeake Bay Office Home Page http://noaa.chesapeakebay.net/. Applications will not be accepted electronically nor by facsimile machine submission. The statement of intent (see SUPPLEMENTARY INFORMATION) should be sent to Peter Bergstrom (peter.bergstrom@noaa.gov).

FOR FURTHER INFORMATION CONTACT: Peter Bergstrom, NOAA Chesapeake Bay Office, telephone: (410) 267-5660, or e-mail: peter.bergstrom@noaa.gov.

SUPPLEMENTARY INFORMATION:

I. Introduction

A statement of intent to submit a full proposal is requested although not required and will assist the NOAA Chesapeake Bay Office in setting up technical reviewers. It is requested that this statement provide a project title, associated investigators and approximate budget.

A. Authority

The Fish and Wildlife Act of 1956, as amended, at 16 U.S.C. 753a, authorizes the Secretary of Commerce (Secretary), for the purpose of developing adequate, coordinated, cooperative research and training programs for fish and wildlife resources, to continue to enter into cooperative agreements with colleges and universities, with game and fish departments of the several states, and with non-profit organizations relating to cooperative research units. The Secretary of Commerce is authorized under the Fish and Wildlife Coordination Act, 16 U.S.C. 661-666c, to provide assistance to, and cooperate with, Federal, State, and public or private agencies and organizations in the development, protection, rearing, and stocking of fisheries, resources thereof, and for fisheries habitat restoration.

B. Catalog of Federal Domestic Assistance (CFDA)

The projects to be funded are in support of the Chesapeake Bay Studies Program (CFDA 11.457).

C. Program Description

The Chesapeake Bay Studies Submerged Aquatic Vegetation Program is a new program initiated this year in response to language in the House Report (H.R. Rep. No. 108-10, at 712 (2003)). The main purpose of the program is to enhance and increase this important fisheries habitat in Chesapeake Bay and its tidal tributaries. Funding will be directed to complement existing and future efforts in this area by Federal, State, and local agencies, and community watershed associations.

Principle investigators will be expected to prepare for and attend one or two workshops with other NCBO supported researchers to encourage interdisciplinary dialogue and collaboration, and presentation of results of supported work.

II. Areas of Interest

Proposals should exhibit familiarity with related work that is completed or ongoing. When appropriate, proposals should be multi-disciplinary. Coordinated efforts involving multiple eligible applicants or individuals are encouraged. Proposals must address one of the areas of interest listed here. If the proposal addresses more than one area of interest, it should list first on the application the area of interest that most closely reflects the objective of the proposal. Proposals should follow and refer to the guidance in the Chesapeake Bay Program's “Strategy to Accelerate the Protection and Restoration of Submerged Aquatic Vegetation in the Chesapeake Bay” which is available at: http://www.chesapeakebay.net/ or via Peter Bergstrom (see ADDRESSES).

All proposals should address the manner in which the applicant will obtain the necessary permits (if applicable) for collecting plant materials from tidal waters and bottom disturbance or putting structures in tidal waters. For collecting permit requirements in Maryland, see: http://mddnr.chesapeakebay.net/savrrc/index.html. For permit information for Virginia tidal waters, see: http://www.mrc.state.va.us/page3.htm.

These areas of interest are not listed in any particular order of importance: A. Enhance supply of SAV propagules for restoration, especially seeds. Propagate seeds, rooted cuttings, and/or whole plants of SAV species native to Chesapeake Bay to use in restoration projects. Priority will be given to proposals to produce seeds of species that are known to grow well from seed, especially eelgrass (Zostera marina) and wild celery (Vallisneria americana). Proposals for other propagation techniques that will minimize the ongoing need to harvest plant materials from the field are also encouraged. Source materials should come from the Chesapeake Bay watershed if possible, and the applicant must have all required collecting permits before collecting any source material from tidal waters. If a proposal is solely for propagation, the application should list organizations that are interested in using the plant materials they produce in restoration projects in Chesapeake Bay. If the propagules produced will be sold, the applicant must explain in his or her proposal how this income will be used to promote program objectives.

B. Applied research to increase the success of planting SAV directly from seeds. Investigate factors directly related to improving the large-scale cultivation and planting of SAV from seeds in Chesapeake Bay. These factors may include the following: optimal conditions for seed production and maturation, seed viability and germination; seed harvest and storage methods; natural modes of seed transport and fates of seeds that disperse naturally; distribution and viability of seed banks; and other factors. Collecting information useful to the direct planting of seeds of wild celery and/or redhead grass (Potamogeton perfoliatus) is encouraged. Proposals that would increase our knowledge of the seed ecology of eelgrass are also encouraged.

C. Large-scale SAV planting in 2003 and/or 2004. Conduct large-scale SAV restoration, including one or more projects that can be done in fall 2003 and/or in 2004. Proposed projects may be expansions of projects already planned, especially if done in 2003. Projects should use native species that have grown well when planted in past Chesapeake Bay projects and sites that have been assessed and shown to have a good chance of SAV survival and include regular evaluation of success for at least 2 years from date of planting. Projects that involve harvesting whole plants from donor beds and transplanting them are discouraged.

D. Site assessments needed to choose SAV planting sites for 2005. Conduct site assessments in 2003 and 2004 of potential sites for large-scale planting projects to be done in 2005 or later. Sites that are assessed should be pre-screened for good SAV growth potential using a GIS targeting tool that uses existing monitoring data. Site assessments may include measuring light availability (water clarity), salinity, temperature, bottom substrate characteristics, water depth, waves and currents, and epiphyte occurrence; mapping current and historical SAV presence by species; conducting small test plantings or other bioassays; and measuring other pertinent water chemistry and environmental parameters.

III. Funding

A. Funding Availability

This solicitation announces that approximately $425,000 will be made available through the NCBO for SAV culture and large scale restoration projects in FY 2003. This document describes how interested persons can apply for funding and how funding decisions will be made.

There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so solely at their own risk of not being reimbursed by the government. Notwithstanding verbal or written assurance that may have been received, there is no obligation on the part of NOAA to cover pre-award costs unless approved by the Grants Officer as part of the terms when the award is made.

B. Award Limits

There are no specified award limits for proposals submitted under this solicitation.

C. Funding Instrument

Whether the funding instrument is a grant or a cooperative agreement will be determined by the degree of NOAA's involvement in the project. A cooperative agreement will be used if NOAA shares responsibility for management, control, direction, or performance of the project with the recipient. Specific terms regarding substantial involvement will be contained in special award conditions.

D. Cost-sharing Requirements

The NOAA strongly encourages applicants applying for either area of interest to share as much of the costs of the award as possible. Funds from other Federal awards may not be considered matching funds. The nature of the contribution (cash versus in-kind) and the amount of matching funds will be taken into consideration in the final selection process. Priority selection will be given to proposals that propose cash rather than in-kind contributions.

IV. Instructions for Application

A. Eligible Applicants

Eligible applicants include state, local and Indian tribal governments, institutions of higher education, other non-profit organizations and commercial organizations.

The Department of Commerce/National Oceanic and Atmospheric Administration (DOC/NOAA) is strongly committed to broadening the participation of historically black colleges and universities, Hispanic serving institutions, tribal colleges and universities, and institutions that work in underserved areas. The NOAA encourages proposals involving any of the above institutions.

B. Project Award Period

Under this solicitation, NCBO will fund SAV related projects as 12-month cooperative agreements or grants. Proposals may be submitted for up to a 2-year project period. However, funds will be made available for only a 12-month award period, and any continuation of the award period will be subject to an approved scope of work, satisfactory progress, a panel review, and available funding to continue the award. No assurances for a funding continuation exists; funding will be at the complete discretion of NOAA.

All proposals must include a full description of the activities and budget for the first year as described in this announcement, a summary description of the proposed work for each subsequent year, and an estimated budget by line item (without supporting budget detail pages) for review and analysis. If selected for funding, the applicant will be required to submit a full proposal for the second year by the deadline announced in the following year's competitive cycle. Proposals will be evaluated through a review panel process, but will not be subject to competition with new proposals. Projects should not be scheduled to begin before September 1, 2003.

C. Format and Requirements

Proposals must be complete and must follow the format described in this notice. Potential recipients may submit separate proposals for each area of interest. Applicants should not assume prior knowledge on the part of the NOAA as to the relative merits of the project described in the application.

1. Proposal format. Applicants are required to submit one signed original and two copies of the full proposal (submission of five additional hard copies is encouraged to expedite the review process, but it is not required). Proposals must be written in at least a 10-point font, double-spaced, unbound, and one-sided. Brevity will assist reviewers and program staff in dealing effectively with proposals. Therefore, the Project Description may not exceed 15 pages. Tables and visual materials, including charts, graphs, maps, photographs, and other pictorial presentations are not included in the 15-page limitation. Appendices may be included but must not exceed a total of 10 pages in length. Appendices may include information such as curriculum, resumes, and/or letters of endorsement. Additional informational material will be disregarded. Proposals must include the following information:

a. Project summary (1-page limit). It is recommended that each proposal contain a summary of no more than one page that provides the following:

(1) Organization title.

(2) Address, telephone number, and email address of applicant.

(3) Area of interest for which you are applying (see section II).

(4) Project title.

(5) Project duration (1-year project period, starting on the first of the month and ending on the last day of the month).

(6) Principal Investigator(s) (PI).

(7) Project objectives.

(8) Summary of work to be performed.

(9) Total Federal funds requested.

(10) Cost-sharing to be provided from non-Federal sources, if any. Specify whether contributions are cash or in-kind.

(11) Total project cost.

b. Project description (15-page limit). Each project must be completely and accurately described. The main body of the proposal should be a clear statement of the work to be undertaken and should include specific objectives and performance measures for the period of the proposed work and the expected significance; relation to longer-term goals of the PI's project; and relation to other work planned, anticipated, or in progress under Federal Assistance. Each project must be described as follows:

(1) Identification of problem(s): Describe the specific problem or area of interest to be addressed (see section II, above).

(2) Project objectives: Objectives should be simple and understandable; as specific and quantitative as possible; clear as to the “what and when,” but should avoid the “how and why”; and attainable within the time, money, and human resources available. Projects should be accomplishment oriented and identify specific performance measures.

(3) Project narrative: The project narrative is the scientific or technical action plan of activities that are to be accomplished during each budget period of the project. This description must include the specific methodologies, by project or job activity, proposed for accomplishing the proposal's objective(s).

Investigators submitting proposals in response to this announcement are strongly encouraged to develop inter-institutional, inter-disciplinary research teams in the form of single, integrated proposals or as individual proposals that are clearly linked together. The project narrative must include a milestone table that summarizes the procedures/objectives that are to be attained in each project month covered. Table format should follow sequential month rather than calendar month (i.e., Project period Month 1, Month 2 * * * versus October, November * * *).

(4) Benefits or results expected: Identify and document the results or benefits to be derived from the proposed activities.

(5) Need for Government financial assistance: Demonstrate the need for assistance. Explain why other funding sources cannot fund all the proposed work. List all other sources of funding that are already in place or have been sought for the project.

(6) Federal, state and local government activities: List any program (Federal, State, or local government or activities, including Sea Grant, state Coastal Zone Management Programs, NOAA Oyster Disease Research Program, the State/Federal Chesapeake Bay Program, etc.) this project would affect and describe the relationship between the project and this plan or activity.

(7) Project management: Describe how the project will be organized and managed. Include resumes of principal investigators. List all persons directly employed by the applicant who will be involved with the project. If a consultant and/or subcontractor is selected prior to application submission, include the name and qualifications of the consultant and/or subcontractor and the process used for selection.

(8) Results from prior NOAA Chesapeake Bay Office support: If any PI or co-PI identified on the project has received support from the NCBO in the past 5 years, information on the prior award(s) is required. The following information should be provided:

(a) The NOAA award number, amount and period of support;

(b) The title of the project;

(c) Summary of the results of the completed work, including, or a research project, any contribution to the development of human resources in science/biology;

(d) Publications resulting from the award (applicable reprints are requested for documentation);

(e) Brief description of available data, samples, physical collections and other related research products not described elsewhere; and

(f) If the proposal is for renewed support, a description of the relation of the completed work to the proposed work.

(9) Monitoring of project performance: Identify who will participate in monitoring the project.

(10) Project impacts: Describe how these products or services will be made available to the fisheries and management communities.

(11) Education and outreach: Describe how this project would provide a focused and effective education and outreach strategy regarding NOAA's mission to protect the Nation's natural resources.

(12) Evaluation of project: Provide an evaluation of project accomplishments and progress toward the project objectives and performance measures at the end of each budget period and in the final report. The application must describe the methodology or procedures to be followed to determine technical feasibility or to quantify the results of the project in promoting increased production, product quality and safety, plant survival, or other measurable factors.

c. Total project costs and budget narrative. Total project costs are the amount of funds required, contributions and donations included, to accomplish what is proposed in the Project Description.

Explain the calculations and provide a narrative to support specific items or activities, such as personnel/salaries, fringe benefits, travel, equipment, supplies, contract costs, and indirect costs. The budget detail and narrative submitted with the application should match the dollar amounts on all required forms. Additional cost detail may be required prior to a final analysis of overall cost allowability, allocability, and reasonableness.

2. Funding restrictions. Please note the following:

a. The budget may include an amount for indirect costs if the applicant has an established indirect cost rate with the Federal Government, see Administrative Requirements, section VI, C.

b. Funds for salaries and fringe benefits may be required only for those personnel who are directly involved in implementing the proposed project and whose salaries and fringe benefits are directly related to specific products or outcomes of the proposed project. NOAA strongly encourages applicants to request reasonable amounts of funding for salaries and fringe benefits to ensure that their proposals are competitive.

3. Supporting documentation. Provide any required documents and any additional information necessary or useful to the description of the project. The amount of information given in this section will depend on the type of project proposed, but should be no more than 20 pages. The applicant should present any information that would emphasize the value of the project in terms of the significance of the problems addressed. Without such information, the merits of the project may not be fully understood, or the value of the project may be underestimated. The absence of adequate supporting documentation may cause reviewers to question assertions made in describing the project and may result in lower ranking of the project. Information presented should be clearly referenced in the project description.

D. Federal forms

Applicants may obtain required Federal forms from the NOAA Chesapeake Bay Office Web site (see ADDRESSES) or from the NOAA Grants Web site: http://www.rdc.noaa.gov/~grants/index.html.

1. Cover sheet. All applicants must use Office of Management and Budget (OMB) Standard Form 424 (revised 7/97) as the cover sheet for each project.

2. Budget form. All applicants must use a Standard Budget Form (SF-424A) required for all Federal grants.

3. Form CD-511. All applicants must submit a CD-511, “Certification Regarding Debarment, Suspension and Other Responsibility Matters; Drug-Free Workplace Requirements and Lobbying”.

4. SF-424B. All applicants must submit a SF-424B, “Assurances of Non-Construction Programs”.

5. CD-346 “Applicant for Funding Assistance.” Required for the following individuals—Sole Proprietorship, Partnerships, Corporations, Joint Venture, Non-profit Organizations.

E. Evaluation Criteria

1. Project Design/Conceptual Approach. Projects will be evaluated on your conceptual approach and how you have integrated this into the project design. (25 points)

2. Project evaluation. Projects will be evaluated based on your explanation of how you will ensure that you are meeting the goals and objectives of your project, as required in Section IV.C.1.b.12, so that results may be reported in performance reports. (10 points)

3. Project Management. Projects will be evaluated based on the management, experience and qualifications of personnel with respect to the applicants being capable of conducting the scope and scale of the proposed work (i.e., education, experience, training, facility, and administrative resources/capabilities). (5 points)

4. Justification and allocation of the proposed budget. Proposals will be evaluated on the reasonableness, allowability, and allocability of the proposed budget, as set forth in Section IV.C.1.c. (10 points)

V. Selection Procedures

A. Initial Evaluation of the Applications

NCBO will review all applications to assure that they meet all the requirements of this announcement, including eligibility and relevance to the NCBO. Proposals that do not support the areas of interest of the Chesapeake Bay, as defined in section II of this document above, will not be considered for funding.

B. Technical Review

Applications meeting the requirements of this solicitation will undergo an external technical review. This review will normally involve individuals in the field of SAV and habitat restoration from both NOAA and non-NOAA organizations. Proposals will be scored based on the evaluation criteria as defined in section IV. D. of this document. Reviewers will be asked to review independently and to provide a score and comments on each proposal. All comments submitted to NCBO will be taken into consideration in the evaluation of projects. No consensus advice will be given by the technical reviewers.

C. Funding Decision

Scores for each proposal will then be averaged and the proposals will be ranked numerically for funding based upon the technical review scores. After the proposals have been ranked, the Chief of the NOAA Chesapeake Bay Office, in consultation with Program staff, will determine which projects will be recommended for funding.

Although numerical ranking will be the primary method used for deciding which of the proposals will be selected for funding, it will not be the sole selection factor. Duplication with other projects, geographic diversity, program goals, inter-jurisdictional and inter-institutional collaboration and duplication, and the nature and the amount of any cost share contribution may also be considered in making the final selections. A written justification will be prepared for any recommendation for funding that falls outside the ranking order. The exact amount of funds awarded to each project will be determined in pre-award negotiations among the applicant, the Grants Office, and the Program staff. Potential grantees should not initiate projects in expectation of Federal funding until an award document signed by an authorized NOAA official has been received.

Unsuccessful applications will be kept on file in the Program office for a period of at least 12 months, then destroyed.

VI. Administrative Requirements

A. Pre-Award Notification Requirements

The Department of Commerce Pre-Award Notification of Requirements for Grants and Cooperative Agreements contained in the Federal Register notice of October 1, 2001 (66 FR 49917), as amended by the Federal Register notice published October 30, 2002 (67 FR 66109), is applicable to this solicitation.

B. Indirect Cost Rates

Regardless of any approved indirect cost rate applicable to the award, the maximum dollar amount of allocable indirect costs for which the Department of Commerce will reimburse the recipient shall be the lesser of the line item amount for the Federal share of indirect costs contained in the approved budget of the award, or the Federal share of the total allocable indirect costs of the award based on the indirect cost rate approved by an oversight or cognizant Federal agency and current at the time the cost was incurred, provided the rate is approved on or before the award end date. However, the Federal share of the indirect costs may not exceed 25 percent of the total proposed direct costs for this Program. Applicants with indirect costs above 25 percent may use the amount above the 25 percent level as cost sharing. If the applicant does not have a current negotiated rate and plans to seek reimbursement for indirect costs, documentation necessary to establish a rate must be submitted within 90 days of receiving an award.

C. Allowable Costs

Funds awarded cannot necessarily pay all the costs that the recipient might incur in the course of carrying out the project. Allowable costs are determined by reference to the Office of Management and Budget Circulars A-122, “Cost Principles for Nonprofit Organizations”; A-21, “Cost Principles for Education Institutions”; and A-87, “Cost Principles for State, Local and Indian Tribal Governments.” Generally, costs that are allowable include salaries, equipment, supplies, and training, as long as these are “necessary and reasonable.” Funds cannot be used for construction activities beyond minor facility upgrades, e.g., adding tanks or plumbing.

Classification

This action has been determined to be “not significant” for purposes of Executive Order 12866. Applications under this program are subject to Executive Order 12372, “Intergovernmental Review of Federal Programs.” Under 5 U.S.C. 553(a)(2), prior notice and opportunity for public comment are not required for rules concerning public property, loans, grants, benefits and contracts. Because notice and an opportunity for comment are not required pursuant to 5 U.S.C. 553 or any other law, the analytical requirements of the Regulatory Flexibility Act, 5 U.S.C. 601 et. seq. are inapplicable.

Under section 553(a)(2) of the Administrative Procedure Act, prior notice and an opportunity for public comment are not required for this notice concerning grants, benefits, and contracts. Therefore, a regulatory flexibility analysis is not required for the purposes of the Regulatory Flexibility Act.

This notice contains collection-of-information requirements subject to the Paperwork Reduction Act. The use of Standard Forms 424, 424A, 424B, and CD-346 has been approved by OMB under the respective control numbers 0348-0043, 0348-0044, 0348-0040, and 0605-0001.

Notwithstanding any other provision of the law, no person is required to respond to, nor shall any person be subject to a penalty for failure to comply with a collection of information subject to the requirements of the Paperwork Reduction Act unless that collection displays a currently valid OMB control number.

Dated: June 4, 2003.
John Oliver,
Deputy Assistant Administrator for Operations, National Marine Fisheries Service.

[FR Doc. 03-14577 Filed 6-9-03; 8:45 am]

BILLING CODE 3510-22-M